DEPARTMENT OF ENERGY

Federal Energy Regulatory Commission

[Project No. 8296-060]

Malacha Hydro Limited Partnership and Juniper Ridge Ranches, Inc.; Notice of Application Accepted for Filing and Soliciting Comments, Motions To Intervene, and Protests

Take notice that the following hydroelectric application has been filed with the Commission and is available for public inspection:

a. Application Type: Request to stay requirements of article 409 of project license.

b. Project No.: 8296-060.

c. Date Filed: January 6, 2015.

d. Applicants: Malacha Hydro Limited Partnership and Juniper Ridge Ranches, Inc.

e. Name of Project: Muck Valley Hydroelectric Project.

f. Location: The project is located on the Pit River in Lassen County, California.

g. Filed Pursuant to: Federal Power Act, 16 U.S.C. 791(a)-825(r).

h. Applicant Contact: Maria Litos, Director of Asset Management, Pacific Operations, Brookfield Renewable Energy Group, 601 S. Figeuroa, Suite 2200, Los Angeles, CA 90017, telephone: 213-995-9905.

i. FERC Contact: Jon Cofrancesco, telephone: (202) 502-8951, and email address: jon.cofrancesco@ferc.gov.

j. Deadline for filing comments, motions to intervene, and protests: September 1, 2015.

All documents may be filed electronically via the Internet. See 18 CFR 385.2001(a)(1)(iii) and the instructions on the Commission's Web site at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail a copy to: Kimberly D. Bose, Secretary, Federal Energy Regulatory Commission, 888 First Street NE., Washington, DC 20426. Please include the project number (P-8296-060) on any comments or motions filed.

k. Description of Request: Article 409 requires Malacha Hydro Limited Partnership and Juniper Ridge Ranches, Inc. (licensees) to upgrade existing access to adjacent public lands managed by the U.S. Bureau of Land Management (BLM), including the construction of trail-head parking facilities, within five years from license issuance. The project license was issued on December 2, 1986. Since license issuance, the licensees have been unable to fulfill this license condition due to an on-going land exchange matter between the BLM and a private landowner, whose land is necessary to provide access to the trailhead parking facilities. The BLM land to be exchanged for the landowner's property is located within the Pit River Canyon Wilderness Study Area. The BLM cannot implement the land exchange until Congress acts to either designate these lands as wilderness or release the lands. Until Congress acts, BLM cannot complete the land exchange and the licensees cannot construct the required trailhead facilities. For these reasons, the licensees request a stay of five years for article 409 to allow Congress additional time to act on the Pit River Canyon Wilderness Study Area.

l. Locations of the Application: A copy of the application is available for inspection and reproduction at the Commission's Public Reference Room, located at 888 First Street NE., Room 2A, Washington, DC 20426, or by calling (202) 502-8371. This filing may also be viewed on the Commission's Web site at http://www.ferc.gov/docs-filing/elibrary.asp. Enter the docket number excluding the last three digits in the docket number field to access the document. A copy is also available for inspection and reproduction at the address in item (h) above.

You may also register online at http://www.ferc.gov/docs-filing/esubscription.asp to be notified via email of new filings and issuances related to this or other pending projects. For assistance, contact FERC Online Support.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: All filings must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the amendment application. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: August 3, 2015.
Nathaniel J. Davis, Sr.,
Deputy Secretary.

[FR Doc. 2015-19423 Filed 8-6-15; 8:45 am]

BILLING CODE 6717-01-P